Title 3—

The President

Executive Order 13641 of April 5, 2013

Adjustments of Certain Rates of Pay

By the authority vested in me as President by the Constitution and the laws of the United States of America, including the Continuing Appropriations and Surface Transportation Extensions Act, 2011 (Public Law 111-322), as extended by the Consolidated and Further Continuing Appropriations Act, 2013 (Public Law 113-6), which requires certain pay schedules for civilian Federal employees to remain at 2010 levels through 2013, it is hereby ordered as follows:

Section 1. Statutory Pay Systems. Pursuant to the Consolidated and Further Continuing Appropriations Act, 2013 (Public Law 113-6), the rates of basic pay or salaries of the statutory pay systems (as defined in 5 U.S.C. 5302(1)) are set forth on the schedules attached hereto and made a part hereof:

(a) The General Schedule (5 U.S.C. 5332(a)) at Schedule 1;

(b) The Foreign Service Schedule (22 U.S.C. 3963) at Schedule 2; and

(c) The schedules for the Veterans Health Administration of the Department of Veterans Affairs (38 U.S.C. 7306, 7404; section 301(a) of Public Law 102-40) at Schedule 3.

Sec. 2. Senior Executive Service. The ranges of rates of basic pay for senior executives in the Senior Executive Service, as established pursuant to 5 U.S.C. 5382, are set forth on Schedule 4 attached hereto and made a part hereof.

Sec. 3. Certain Executive, Legislative, and Judicial Salaries. The rates of basic pay or salaries for the following offices and positions are set forth on the schedules attached hereto and made a part hereof:

(a) The Executive Schedule (5 U.S.C. 5312-5318) at Schedule 5;

(b) The Vice President (3 U.S.C. 104) and the Congress (2 U.S.C. 31) at Schedule 6; and

(c) Justices and judges (28 U.S.C. 5, 44(d), 135, 252, and 461(a), and section 140 of Public Law 97-92) at Schedule 7.

Sec. 4. Uniformed Services. The rates of monthly basic pay (37 U.S.C. 203(a)) for members of the uniformed services, as adjusted under 37 U.S.C. 1009, and the rate of monthly cadet or midshipman pay (37 U.S.C. 203(c)) are set forth on Schedule 8 attached hereto and made a part hereof.

Sec. 5. Locality-Based Comparability Payments. (a) Pursuant to sections 5304 and 5304a of title 5, United States Code, and the Continuing Appropriations and Surface Transportation Extensions Act, 2011 (Public Law 111-322), as extended by the Consolidated and Further Continuing Appropriations Act, 2013 (Public Law 113-6), locality-based comparability payments shall be paid in accordance with Schedule 9 attached hereto and made a part hereof.

(b) The Director of the Office of Personnel Management shall take such actions as may be necessary to implement these payments and to publish appropriate notice of such payments in the Federal Register.

Sec. 6. Administrative Law Judges. Pursuant to section 5372 of title 5, United States Code, the rates of basic pay for administrative law judges are set forth on Schedule 10 attached hereto and made a part hereof.

Sec. 7. Effective Dates. Schedule 8 is effective January 1, 2013. The other schedules contained herein are effective on the first day of the first applicable pay period beginning on or after January 1, 2013.

Sec. 8. Prior Order Superseded. Executive Order 13635 of December 27, 2012, is superseded as of the effective dates specified in section 7 of this order.

THE WHITE HOUSE,

April 5, 2013.

Billing code 3295-F3-P

[FR Doc. 2013-08626

Filed 4-10-13; 8:45 am]

Billing code 6325-01-C